Presidential Determination No. 2001-25 of August 31, 2001

Presidential Determination on the Proposed Protocol Amending the Agreement for Cooperation Between the Government of the United States of America and the Government of the Kingdom of Morocco Concerning Peaceful Uses of Nuclear Energy

Memorandum for the Secretary of State [and] the Secretary of Energy

I have considered the proposed Protocol Amending the Agreement for Cooperation Between the Government of the United States of America and the Government of the Kingdom of Morocco Concerning Peaceful Uses of Nuclear Energy signed at Washington on May 30, 1980, along with the views, recommendations, and statements of the interested agencies.

I have determined that the performance of the Protocol will promote, and will not constitute an unreasonable risk to, the common defense and security. Pursuant to section 123 b. of the Atomic Energy Act of 1954, as amended (42 U.S.C. 2153(b)), I hereby approve the proposed Protocol and authorize you to arrange for its execution.

The Secretary of State is authorized and directed to publish this determination in the Federal Register.

B

THE WHITE HOUSE,

Washington, August 31, 2001.

[FR Doc. 01-22644

Filed 9-6-01; 8:45 am]

Billing code 4710-10-M